DEPARTMENT OF TRANSPORTATION

Surface Transportation Board

[STB Finance Docket No. 33876]

State of Georgia, Department of Transportation—Acquisition Exemption—Georgia Southwestern Railroad, Inc.

The State of Georgia, Department of Transportation (GDOT), a noncarrier, has filed a verified notice of exemption under 49 CFR 1150.31 to acquire from Georgia Southwestern Railroad, Inc. (GSWR) certain railroad assets, including approximately 71.13 miles of rail line extending between Rochelle, GA (milepost 644.00), and a point near Preston, GA (milepost 713.00), and between Omaha, GA ( milepost 753.00), and Mahrt, AL (milepost 755.13).¹

¹ The transaction does not include the right or obligation to conduct common carrier freight operations. Heart of Georgia Railroad, Inc. (HOG) acquired the exclusive rail freight easement over the rail line. See Heart of Georgia Railroad, Inc.—Acquisition and Operation Exemption—State of Georgia and Georgia Southwestern Railroad, Inc., STB Finance Docket No. 33867 (STB served May 4, 2000). HOG currently conducts and will continue to conduct common carrier freight operations over the rail line. Neither GDOT nor GSWR will have a common carrier obligation to provide freight services when this transaction is completed.

The transaction is scheduled to take place as soon as possible after the May 22, 2000 effective date of the exemption.

If the notice contains false or misleading information, the exemption is void ab initio.² Petitions to reopen the proceeding to revoke the exemption under 49 U.S.C. 10502(d) may be filed at any time. The filing of a petition to revoke will not automatically stay the transaction.

² A motion to dismiss has been filed in this proceeding. The motion will be addressed in a subsequent Board decision.

An original and 10 copies of all pleadings, referring to STB Finance Docket No. 33876, must be filed with the Surface Transportation Board, Office of the Secretary, Case Control Unit, 1925 K Street, NW., Washington, DC 20423-0001. In addition, a copy of each pleading must be served on Luke Cousins, State of Georgia, Department of Transportation, #2 Capitol Square, S.W., Atlanta, GA 30334-1002.

Board decisions and notices are available on our website at “WWW.STB.DOT.GOV.”

Decided: May 18, 2000.
By the Board, David M. Konschnik, Director, Office of Proceedings.
Vernon A. Williams,
Secretary.

[FR Doc. 00-13171 Filed 5-24-00; 8:45 am]

BILLING CODE 4915-00-P